DEPARTMENT OF ENERGY

Federal Energy Regulatory Commission

Combined Notice of Filings

Take notice that the Commission has received the following Natural Gas Pipeline Rate and Refund Report filings:

Filings Instituting Proceedings

Docket Numbers: RP25-663-000.

Applicants: Midship Pipeline Company, LLC.

Description: § 4(d) Rate Filing: Midship Pipeline Fuel Filing to be effective 4/1/2025.

Filed Date: 2/28/25.

Accession Number: 20250228-5218.

Comment Date: 5 p.m. ET 3/12/25.

Docket Numbers: RP25-664-000.

Applicants: Alliance Pipeline L.P.

Description: § 4(d) Rate Filing: Temporary Capacity Release Negotiated Rate Transactions to be effective 3/1/2025.

Filed Date: 2/28/25.

Accession Number: 20250228-5222.

Comment Date: 5 p.m. ET 3/12/25.

Docket Numbers: RP25-665-000.

Applicants: Southern Natural Gas Company, L.L.C.

Description: § 4(d) Rate Filing: SNG Summer Period Fuel Rate Update Filing to be effective 4/1/2025.

Filed Date: 2/28/25.

Accession Number: 20250228-5224.

Comment Date: 5 p.m. ET 3/12/25.

Docket Numbers: RP25-666-000.

Applicants: Midship Pipeline Company, LLC.

Description: Compliance filing: Midship Pipeline Change of Address Filing to be effective 4/1/2025.

Filed Date: 2/28/25.

Accession Number: 20250228-5230.

Comment Date: 5 p.m. ET 3/12/25.

Docket Numbers: RP25-667-000.

Applicants: Transcontinental Gas Pipe Line Company, LLC.

Description: § 4(d) Rate Filing: Annual Electric Power Tracker Filing Effective April 1 2025 to be effective 4/1/2025.

Filed Date: 2/28/25.

Accession Number: 20250228-5238.

Comment Date: 5 p.m. ET 3/12/25.

Docket Numbers: RP25-668-000.

Applicants: Millennium Pipeline Company, LLC.

Description: § 4(d) Rate Filing: SWN Energy Name Change to Expand Energy Agmts to be effective 3/1/2025.

Filed Date: 2/28/25.

Accession Number: 20250228-5252.

Comment Date: 5 p.m. ET 3/12/25.

Docket Numbers: RP25-669-000.

Applicants: MarkWest Pioneer, L.L.C.

Description: § 4(d) Rate Filing: Quarterly Fuel Adjustment Filing to be effective 4/1/2025.

Filed Date: 2/28/25.

Accession Number: 20250228-5255.

Comment Date: 5 p.m. ET 3/12/25.

Docket Numbers: RP25-670-000.

Applicants: Southern Star Central Gas Pipeline, Inc.

Description: § 4(d) Rate Filing: Fuel Filing—Eff. April 1, 2025 to be effective 4/1/2025.

Filed Date: 2/28/25.

Accession Number: 20250228-5256.

Comment Date: 5 p.m. ET 3/12/25.

Docket Numbers: RP25-671-000.

Applicants: TransColorado Gas Transmission Company LLC.

Description: § 4(d) Rate Filing: TC Quarterly FL&U Update Feb. 2025 to be effective 4/1/2025.

Filed Date: 2/28/25.

Accession Number: 20250228-5286.

Comment Date: 5 p.m. ET 3/12/25.

Docket Numbers: RP25-672-000.

Applicants: BBT Midla, LLC.

Description: Annual Unaccounted for Gas Retention Percentage of BBT Midla, LLC.

Filed Date: 2/28/25.

Accession Number: 20250228-5292.

Comment Date: 5 p.m. ET 3/12/25.

Docket Numbers: RP25-673-000.

Applicants: Tennessee Gas Pipeline Company, L.L.C.

Description: § 4(d) Rate Filing: Curtailment and Reservation Charge Crediting to be effective 4/1/2025.

Filed Date: 2/28/25.

Accession Number: 20250228-5291.

Comment Date: 5 p.m. ET 3/12/25.

Docket Numbers: RP25-674-000.

Applicants: Portland Natural Gas Transmission System.

Description: § 4(d) Rate Filing: PNGTS Open Season Updates to be effective 4/1/2025.

Filed Date: 2/28/25.

Accession Number: 20250228-5333.

Comment Date: 5 p.m. ET 3/12/25.

Docket Numbers: RP25-675-000.

Applicants: El Paso Natural Gas Company, L.L.C.

Description: § 4(d) Rate Filing: Non-Conforming and Negotiated Rate Agreements Filing (CFE_PGE_Mieco_DRW) to be effective 4/1/2025.

Filed Date: 2/28/25.

Accession Number: 20250228-5364.

Comment Date: 5 p.m. ET 3/12/25.

Docket Numbers: RP25-676-000.

Applicants: Gillis Hub Pipeline, LLC.

Description: § 4(d) Rate Filing: GHP 2025 Annual Adjustment of Fuel Retainage Perc to be effective 4/1/2025.

Filed Date: 2/28/25.

Accession Number: 20250228-5367.

Comment Date: 5 p.m. ET 3/12/25.

Docket Numbers: RP25-677-000.

Applicants: Adelphia Gateway, LLC.

Description: Compliance filing: Adelphia Gateway Annual Use and Balancing Adjustment Filing to be effective N/A.

Filed Date: 2/28/25.

Accession Number: 20250228-5382.

Comment Date: 5 p.m. ET 3/12/25.

Docket Numbers: RP25-678-000.

Applicants: Gillis Hub Pipeline, LLC.

Description: § 4(d) Rate Filing: Filing of Negotiated Rate, Conforming FT Agreement to be effective 4/1/2025.

Filed Date: 2/28/25.

Accession Number: 20250228-5387.

Comment Date: 5 p.m. ET 3/12/25.

Docket Numbers: RP25-679-000.

Applicants: Cameron Interstate Pipeline, LLC.

Description: § 4(d) Rate Filing: Filing of Negotiated Rate, Amending Neg Rate FT Agreement to be effective 4/1/2025.

Filed Date: 2/28/25.

Accession Number: 20250228-5430.

Comment Date: 5 p.m. ET 3/12/25.

Docket Numbers: RP25-691-000.

Applicants: Transcontinental Gas Pipe Line Company, LLC.

Description: § 4(d) Rate Filing: Negotiated Rates—SRE Interim Svc Termination and Other Updates to be effective 4/4/2025.

Filed Date: 3/4/25.

Accession Number: 20250304-5156.

Comment Date: 5 p.m. ET 3/17/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP23-1032-002.

Applicants: Osaka Gas Trading & Export LLC.

Description: Osaka Gas Trading & Export LLC submits Annual Report of Purchased Capacity pursuant to the 10/20/2023 Order.

Filed Date: 2/26/25.

Accession Number: 20250226-5241.

Comment Date: 5 p.m. ET 3/10/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 5, 2025.
Carlos D. Clay,
Deputy Secretary.

[FR Doc. 2025-03841 Filed 3-10-25; 8:45 am]

BILLING CODE 6717-01-P